DEPARTMENT OF EDUCATION

[CFDA No. 84.128J]

Recreational Programs; Notice Inviting Applications for New Awards for Fiscal Year (FY) 2001

Purpose of Program: To provide grants for recreational programs providing individuals with disabilities recreational activities and related experiences to aid in their employment, mobility, socialization, independence, and community integration.

Eligible Applicants: States, public agencies, and nonprofit private organizations.

SUPPLEMENTARY INFORMATION: Funds under this competition will be used to support projects in FY 2001. The Assistant Secretary may consider funding approved applications submitted in FY 2001 to support projects in later years.

Applications Available: April 30, 2001.

Deadline for Transmittal of Applications: June 29, 2001.

Deadline for Intergovernmental Review: August 28, 2001.

Available Funds: $803,607.

Estimated Range of Awards: $134,000-$140,000.

Estimated Average Size of Awards: $130,000.

Estimated Number of Awards: 6.

Note: The Department is not bound by any estimates in this notice.

Project Period: Up to 36 months.

Applicable Regulations: The Education Department General Administrative Regulations (EDGAR) in 34 CFR parts 74, 75, 77, 79, 80, 81, 82, 85, and 86.

Note: The regulations in 34 CFR part 79 apply to all applicants except federally recognized Indian tribes.

Note: The regulations in 34 CFR part 86 apply to institutions of higher education only.

Priorities

Absolute Priority

This competition focuses on projects designed to meet the absolute priority in the notice of final priority for this program, published elsewhere in this issue of the Federal Register. Under 34 CFR 75.105(c)(3) we consider only applications that meet the absolute priority.

Competitive Preference Priority

Within the absolute priority for this competition for FY 2001, this competition focuses on projects designed to meet the competitive preference priority in the notice of final competitive preference for this program, published in the Federal Register on November 22, 2000 (65 FR 70408). Under 34 CFR 75.105(c)(2)(i) we award up to an additional 10 points to an application, depending on the extent to which the application meets the competitive preference priority.

For Applications Contact: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs via its Web site:

http://www.ed.gov/pubs/edpubs.html

Or you may contact ED Pubs at its e-mail address:

edpubs@inet.ed.gov

If you request an application from ED Pubs, be sure to identify this competition as follows: CFDA number 84.128J.

Individuals with disabilities may obtain a copy of the application package in an alternative format by contacting the Grants and Contracts Services Team, U.S. Department of Education, 400 Maryland Avenue, SW., room 3317, Switzer Building, Washington, DC 20202-2550. Telephone: (202) 205-8351. If you use a telecommunications device for the deaf (TDD), you may call the Federal Information Relay Service (FIRS) at 1-800-877-8339. However, the Department is not able to reproduce in an alternative format the standard forms included in the application package.

FOR FURTHER INFORMATION CONTACT: Mary E. Chambers, U.S. Department of Education, 400 Maryland Avenue, SW., room 3322, Switzer Building, Washington, DC 20202-2647. Telephone (202) 205-8435. If you use a telecommunications device for the deaf (TDD), you may call the Federal Information Relay Service (FIRS) at 1-800-877-8339.

Individuals with disabilities may obtain a copy of this document in an alternative format (e.g., Braille, large print, audiotape, or computer diskette) on request to the contact person listed in the preceding paragraph.

Electronic Access to This Document

You may view this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at:

http://www.access.gpo.gov/nara/index.html

Program Authority: 29 U.S.C. 775.

Dated: April 13, 2001.
Francis V. Corrigan,
Deputy Director, National Institute on Disability, and Rehabilitation Research.

[FR Doc. 01-9654 Filed 4-18-01; 8:45 am]

BILLING CODE 4000-01-P